DEPARTMENT OF TRANSPORTATION

Federal Aviation Administration

[Docket No. FAA-2007-29320]

Order Limiting Scheduled Operations at John F. Kennedy International Airport

AGENCY: Federal Aviation Administration (FAA), DOT.

ACTION: Notice of Limited Waiver of the Slot Usage Requirement.

SUMMARY: This action grants with conditions a limited waiver of the slot usage requirement for operating authorizations (slots) at John F. Kennedy International Airport (JFK) due to construction at the airport during the winter 2014/2015 and summer 2015 scheduling seasons. This waiver applies only to JFK slots for the period from March 1, 2015, through October 24, 2015.

DATES: Effective upon publication. The deadlines for temporary slot returns under this waiver are December 15, 2014, for slots from March 1 through March 28, 2015, and January 15, 2015, for slots from March 29 through October 24, 2015.

FOR FURTHER INFORMATION CONTACT: Robert Hawks, Office of the Chief Counsel, Federal Aviation Administration, 800 Independence Avenue SW., Washington, DC 20591; telephone: (202) 267-7143; email: rob.hawks@faa.gov.

SUPPLEMENTARY INFORMATION:

Background

The Port Authority of New York and New Jersey (Port Authority) will conduct extensive construction on JFK runway 4L/22R. Runway safety area and other preparatory work will begin in 2014 and is not expected to have significant operational impacts. Extensive operational impacts are expected in 2015 as the airport rehabilitates Runway 4L/22R, widens the runway to 200 feet required for Group VI aircraft, improves taxiway fillets required for Group VI aircraft, and constructs access and high speed taxiways. The work will also impact Runways 13L/31R and 13R/31L as they intersect with Runway 4L/22R. Runway 13L/31R will be closed from March 1 through April 9, 2015. Runway 4L/22R will be open during this time with reduced length. Runway 13R/31L will operate with reduced length from April 10 through September 21, 2015.

The FAA, Port Authority, and airport stakeholders have been meeting for several months to review the construction plans and schedules, assess the potential operational impacts, and identify mitigation options. Updates will be discussed at various FAA and airport meetings over the coming months.

FAA Analysis

Under the Order limiting scheduled operations at JFK, slots must be used at least 80 percent of the time. This rule is expected to accommodate routine weather and other cancellations under all but the most unusual circumstances. Slots not meeting the minimum usage rules will not receive historic precedence for the following corresponding scheduling season.¹ The FAA may grant a waiver from the slot usage requirement in highly unusual and unpredictable conditions that are beyond a carrier's control and affect a carrier's operations for a period of five or more consecutive days. However, the FAA does not routinely grant general waivers to the usage requirement except under the most unusual circumstances.

¹ 79 FR 16854 (Mar. 26, 2014).

The FAA has determined that the projected operational, congestion, and delay impacts of the 2015 JFK runway construction meet the requirements for a temporary waiver of the slot usage requirement. In light of the projected runway capacity and throughput impacts during construction, reducing operations to minimize congestion and delays is in the public interest. The FAA expects to implement measures such as those used during the JFK Runway 13R/31L construction in 2010 and Newark Liberty International Airport Runway 4L/22R construction in 2014. These include seeking voluntary schedule reductions of historic flights in the busiest hours, retiming flights to less congested periods, increasing scheduled block time, limiting the allocation of new slots to off peak hours, optimizing the use of airport capacity based on demand and aircraft fleet mix, and revising air traffic control operational plans and procedures as warranted. Carriers that temporarily reduce flights and elect to temporarily return slots to the FAA rather than transfer them for another carrier's use should not be penalized by permanently losing the authority to operate.

FAA Decision

In consideration of the foregoing, the FAA has determined to issue a limited slot usage waiver for the part of the winter 2014/2015 scheduling season and all of the summer 2015 scheduling season. Granting a waiver for these slots is consistent with recent agency decisions.² This waiver applies only to JFK slots for the period from March 1, 2015, through October 24, 2015.³ To obtain a waiver for a specific slot held, a carrier must temporarily return to the FAA slots that it will not operate during the waiver period. The carrier will retain historical precedence for these temporarily returned slots. These temporary slot returns permit the FAA to plan for days on which construction closures and resulting operational impacts occur. If the closure dates change due to weather or other factors, the FAA will apply the waiver, including retroactively, if a carrier notifies the FAA that the temporarily returned slots will not be operated on any new closure dates.

² Notice of Temporary Waiver of the Minimum Usage Requirement Under the Order Limiting Scheduled Operations at John F. Kennedy International, 74 FR 52838 (Oct. 14, 2009) (granting waiver for JFK runway construction); Notice of Limited Waiver of the Slot Usage Requirement Under the Order Limiting Operations at Newark Liberty International Airport, 78 FR 57674 (Sept. 19, 2013) (granting waiver for EWR runway construction).

³ The FAA is granting the waiver until the end of the summer scheduling season rather than only until the planned September 22 reopening of the runway. It may not be practical for carriers to resume some scheduled flights in late September and October.

The FAA recognizes that carriers may make adjustments in schedules based on operational assessments and modeling efforts that are currently underway. The FAA also understands that some carriers may need additional time to finalize schedules and potential reductions beyond the regular winter 2014/2015 slot return deadline of August 15, 2014. Accordingly, the FAA will allow an additional slot return date to allow for better planning by carriers and for discussions with the FAA on potential schedule and slot adjustments to mitigate delays. For slots from March 1 through March 28, 2015, the temporary slot return deadline is Monday, December 15, 2014. For slots March 29 through October 24, 2015, the slot return deadline is Thursday, January 15, 2015. Temporary slot returns should be submitted to the Slot Administration Office by email at 7-awa-slotadmin@faa.gov. These return notifications should indicate they are subject to this waiver.

Issued in Washington, DC, on May 21, 2014.
Mark W. Bury,
Assistant Chief Counsel for International Law, Legislation, and Regulations.

[FR Doc. 2014-12363 Filed 5-28-14; 8:45 am]

BILLING CODE 4910-13-P